DEPARTMENT OF ENERGY

Federal Energy Regulatory Commission

Notice of Amendment of License and Soliciting Comments, Motions To Intervene, and Protests

May 25, 2004.

Take notice that the following hydroelectric application has been filed with the Commission and is available for public inspection:

a. Application Type: Amendment of license.

b. Project No.: 2281-006.

c. Date Filed: March 9, 2004.

d. Applicant: Pacific Gas and Electric Company (PG&E).

e. Name of Project: Woodleaf-Palermo Transmission Line.

f. Location: The project is located in Butte County, California. The project occupies lands of the United States in the Plumas National Forest.

g. Filed Pursuant to: Federal Power Act, 16 U.S.C. 791(a)-825(r).

h. Applicant Contact: Forrest Sullivan, Senior Project Manager, Pacific Gas and Electric Company, 5555 Florin-Perkins Road, Building 500, Sacramento, CA 95826, (916) 386-5580

i. FERC Contact: Regina Saizan, (202) 502-8765.

j. Deadline for Filing Comments and or Motions: June 28, 2004.

All documents (original and eight copies) should be filed with: Magalie R. Salas, Secretary, Federal Energy Regulatory Commission, 888 First Street, NE., Washington, DC 20426. Comments, protests, and interventions may be filed electronically via the Internet in lieu of paper; see 18 CFR 385.2001(a)(1)(iii) and the instructions on the Commission's Web site under the “e-Filing” link. The Commission strongly encourages electronic filings. Please include the project number (P-2281-006) on any comments or motions filed.

The Commission's rules of practice and procedure require all interveners filing a document with the Commission to serve a copy of that document on each person in the official service list for the project. Further, if an intervener files comments or documents with the Commission relating to the merits of an issue that may affect the responsibilities of a particular resource agency, they must also serve a copy of the document on that resource agency.

k. Description of Amendment: PG&E requests that the license expiration date be accelerated from July 1, 2010, to March 31, 2009. PG&E states that the approval to accelerate the expiration date would provide it the opportunity to relicense the Woodleaf-Palermo Transmission Line Project with the Sly Creek Transmission Line Project No. 4851. Both transmission projects serve as primary transmission lines for the South Feather Hydroelectric Project No. 2088. The licenses for Project Nos. 2088 and 4851 expire on March 31, 2009. PG&E states that acceleration of the expiration date for the Woodleaf-Palermo Transmission Line Project to March 31, 2009, provides for the coordinated relicensing of the three projects and is expected to be more efficient for the agencies and the public participating in the relicensing process.

l. Locations of Application: A copy of the application is available for inspection and reproduction at the Commission in the Public Reference Room, located at 888 First Street, NE., Room 2A, Washington, DC 20426, or by calling (202) 502-8371. This filing may also be viewed on the Commission's Web site at http://www.ferc.gov using the “eLibrary” link. Enter the docket number excluding the last three digits in the docket number field to access the document. For assistance, call toll-free 1-866-208-3676 or e-mail FERCOnlineSupport@ferc.gov. For TTY, call (202) 502-8659. A copy is also available for inspection and reproduction at the address in item h. above.

m. Individuals desiring to be included on the Commission's mailing list should so indicate by writing to the Secretary of the Commission.

n. Comments, Protests, or Motions to Intervene—Anyone may submit comments, a protest, or a motion to intervene in accordance with the requirements of rules of practice and procedure, 18 CFR 385.210, .211, .214. In determining the appropriate action to take, the Commission will consider all protests or other comments filed, but only those who file a motion to intervene in accordance with the Commission's rules may become a party to the proceeding. Any comments, protests, or motions to intervene must be received on or before the specified comment date for the particular application.

o. Filing and Service of Responsive Documents—Any filings must bear in all capital letters the title “COMMENTS”, “PROTEST”, or “MOTION TO INTERVENE”, as applicable, and the Project Number of the particular application to which the filing refers. A copy of any motion to intervene must also be served upon each representative of the Applicant specified in the particular application.

p. Agency Comments—Federal, State, and local agencies are invited to file comments on the described application. A copy of the application may be obtained by agencies directly from the Applicant. If an agency does not file comments within the time specified for filing comments, it will be presumed to have no comments. One copy of an agency's comments must also be sent to the Applicant's representatives.

Magalie R. Salas,
Secretary.

[FR Doc. E4-1233 Filed 5-28-04; 8:45 am]

BILLING CODE 6717-01-P